DEPARTMENT OF TRANSPORTATION

Federal Aviation Administration

Agency Information Collection Activities: Requests for Comments; Clearance of Renewed Approval of Information Collection: Renewal of AVIATOR Customer Satisfaction Survey

AGENCY: Federal Aviation Administration (FAA), DOT.

ACTION: Notice and request for comments.

SUMMARY: In accordance with the Paperwork Reduction Act of 1995, FAA invites public comments about our intention to request the Office of Management and Budget (OMB) approval to renew an information collection. The collection involves on-line, electronic applicant (customer) answers to standard survey questions. The questions are presented as multiple-choice selections and free-form text areas where applicants can choose their desired answer and, if they wish, add additional comments. The information to be collected will be used to and is necessary to gage the level of user satisfaction with the AVIATOR (Automated Vacancy Information Access Tool for Online Referral) system. Additionally, the surveys are used to obtain benchmarking and feedback to ensure quality.

DATES: Written comments should be submitted by August 2018.

ADDRESSES: Send comments to the FAA at the following address: Barbara Hall, Federal Aviation Administration, ASP-110, 10101 Hillwood Parkway, Fort Worth, TX 76177.

Public Comments Invited: You are asked to comment on any aspect of this information collection, including:

(a) Whether the proposed collection of information is necessary for FAA's performance

(b) The accuracy of the estimated burden

(c) Ways for FAA to enhance the quality, utility and clarity of the information collection and

(d) Ways that the burden could be minimized without reducing the quality of the collected information.

The agency will summarize and/or include your comments in the request for OMB's clearance of this information collection.

FOR FURTHER INFORMATION CONTACT: Barbara Hall by email at: Barbara.L.Hall@faa.gov; phone: 940-594-5913.

SUPPLEMENTARY INFORMATION:

OMB Control Number: 2120-0699.

Title: AVIATOR (Automated Vacancy Information Access Tool for Online Referral) Customer Satisfaction Survey.

Form Numbers: N/A (electronic).

Type of Review: Renewal.

Background: The Government Performance and Results Act of 1993 (GPRA) Section 2(b)(3) requires agencies to “improve Federal program effectiveness and public accountability by promoting a new focus on results, service quality, and customer satisfaction”. In addition, as stated in the White House “Memorandum for Heads of Executive Departments and Agencies” regarding Executive Order No. 12862, “the actions the order prescribes, such as surveying customers, surveying employees, and benchmarking, shall be continuing agency activities”. This collection supports the DOT strategic goal of Organizational Excellence.

In compliance with the Government Paperwork Elimination Act (GPEA), all of our data collection will be 100% electronic using an online form; Applicants will be asked to complete the survey just before they exit the system. AVIATOR is the FAA's Online Job Application System. The AVIATOR Customer Satisfaction Survey is designed to identify potential problems with FAA's automated staffing solutions as well as to evaluate customer satisfaction with the on-line application process. The information is not gathered by any other collection. It will be difficult, if not impossible, to improve the AVIATOR system's overall performance and customer satisfaction without utilizing the survey as a performance measurement tool.

Respondents: Individuals who use AVIATOR (the FAA's Online Job Application System).

Frequency: on occasion of use of AVIATOR.

Estimated Average Burden per Response: .05 hours.

Estimated Total Annual Burden: 82 hours (It is estimated that it will take each of the 75,515 (estimated average) external applicants three minutes to complete one survey for a total of 3,776 hours, if all external applicants choose to complete the AVIATOR Customer Satisfaction Survey. The survey statistics show that an average of 2.2% of the applicants (approximately 1,645) complete a survey resulting in an estimate of 82 total hours.)

Issued in Fort Worth, TX, on March 22, 2018.
Barbara L. Hall,
FAA Information Collection Clearance Officer, Performance, Policy, and Records Management Branch, ASP-110.

[FR Doc. 2018-06403 Filed 3-29-18; 8:45 am]

BILLING CODE 4910-13-P